DEPARTMENT OF THE INTERIOR

Bureau of Land Management

[NV-050-1430-ES; N-74355]

Notice of Realty Action: Conveyance for Recreation and Public Purposes

AGENCY: Bureau of Land Management.

ACTION: Notice of realty action.

SUMMARY: The following described public land in the Las Vegas Valley, Clark County, Nevada, has been examined and found suitable for conveyance for recreational or public purposes under the provisions of the Recreation and Public Purposes Act, as amended (43 U.S.C. 869 et. seq.).

FOR FURTHER INFORMATION CONTACT: Anna Wharton, Supervisory Realty Specialist, (702) 515-5095.

SUPPLEMENTARY INFORMATION: The following described public land in the Las Vegas Valley, Clark County, Nevada, has been examined and found suitable for conveyance for recreational or public purposes under the provisions of the Recreation and Public Purposes Act, as amended (43 U.S.C. 869 et. seq.).

The Clark County School District proposes to use the land for the maintenance, parking, cleaning, and fueling of school busses and as a radio communications center.

Mount Diablo Meridian, Nevada

T. 23 S., R. 61 E., MDM

Sec. 08: S½NW¼NW¼SE¼, SW¼NW¼SE¼, SW¼SE¼, NW¼NW¼SE¼SE¼

N½SW¼SE¼SE¼, N½SE¼SE¼SE¼ (that portion west of centerline of US 91).

Containing approximately 65.44 acres.

The land is not required for any Federal purpose. The conveyance is consistent with current Bureau planning for this area and would be in the public interest. The patent, when issued, will be subject to the provisions of the Recreation and Public Purposes Act and applicable regulations of the Secretary of the Interior and will contain the following reservations to the United States:

1. A right-of-way thereon for ditches and canals constructed by the authority of the United States, Act of August 30, 1890 (43 U.S.C. 945).

2. All minerals shall be reserved to the United States, together with the right to prospect for, mine and remove such deposits from the same under applicable law and such regulations as the Secretary of the Interior may prescribe. and will be subject to:

1. All valid and existing rights. The lands have been segregated from all forms of appropriation under the Southern Nevada Public Lands Management Act (Pub. L. 105-263). Detailed information concerning this action is available for review at the office of the Bureau of Land Management, Las Vegas Field Office, 4701 N. Torrey Pines Drive, Las Vegas, NV, or by calling (702) 515-5000.

On October 9, 2003, the above described land will be segregated from all other forms of appropriation under the public land laws, including the general mining laws, except for conveyance under the Recreation and Public Purposes Act, leasing under the mineral leasing laws and disposal under the mineral material disposal laws.

For a period until November 24, 2003, interested parties may submit comments regarding the proposed conveyance for classification of the lands to the Las Vegas Field Manager, Las Vegas Field Office, 4701 N. Torrey Pines Drive, Las Vegas, Nevada 89130-2301.

Classification Comments: Interested parties may submit comments involving the suitability of the land for a bus yard/communications center. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the lands for a bus yard/communications center. Any adverse comments will be reviewed by the State Director who may sustain, vacate, or modify this realty action. In the absence of any adverse comments, these realty actions will become the final determination of the Department of the Interior. The classification of the land described in this Notice will become effective December 8, 2003. The lands will not be offered for conveyance until after the classification becomes effective.

Dated: August 22, 2003.
Sharon DiPinto,
Acting Assistant Field Manager, Division of Lands, Las Vegas, NV.

[FR Doc. 03-25612 Filed 10-8-03; 8:45 am]

BILLING CODE 4310-HC-P